DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans).

SUMMARY: The FHWA, on behalf of Caltrans, is issuing this notice to announce actions taken by Caltrans.The actions relate to the proposed improvement of Avenue R from the Sierra Highway to just east of 25th Street East within the City of Palmdale in the County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before January 25, 2018. If the Federal law that authorizes judicial review of a claim provides a time period of less than 150 days for filing such claim, then that shorter time period still applies.

FOR FURTHER INFORMATION CONTACT: For Caltrans: Quint Chemnitz, Associate Environmental Planner, Environmental Planning Division, California Department of Transportation—District 7, 100 South Main Street, Los Angeles, California, 8 a.m. to 5 p.m., (213) 897-2863, quint.chemnitz@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following Avenue R Complete Street and Safe Routes Project in the State of California: The project proposes to provide a safer corridor along Avenue R for local students by providing a two-way left-turn lane; providing dedicated Class II bike lanes; closing sidewalk gaps; and providing bus turnouts along the project reach. Improvements will be made on Avenue R from just west of Sierra Highway to just east of 25th Street East. The Federal Project Identification Number associated with the project is ATPL-5378(038). The actions by the Federal agencies, and the laws under which such actions were taken, are described in the Environmental Assessment (EA) with a Finding of No Significant Impact (FONSI) for the project, approved on May 1, 2017, and in other documents in the project records. The EA/FONSI, and other project records are available by contacting Caltrans at the addresses provided above. The EA/FONSI can be viewed and downloaded from the project Web site at http://www.dot.ca.gov/d7/env-docs/, or viewed at public libraries in the project area. This notice applies to all Federal agency decisions as of the issuance date of this notice and all laws under which such actions were taken, including but not limited to:

1. Council on Environmental Quality Regulations;

2. National Environmental Policy Act;

3. Fixing America's Surface Transportation Act (FAST Act);

4. Department of Transportation Act of 1966;

5. Federal Aid Highway Act of 1970;

6. Clean Air Act Amendments of 1990;

7. Noise Control Act of 1970;

8. 23 CFR part 772 FHWA Noise Standards, Policies and Procedures;

9. Department of Transportation Act of 1966, Section 4(f);

10. Clean Water Act of 1977 and 1987;

11. Endangered Species Act of 1973;

12. Migratory Bird Treaty Act;

13. National Historic Preservation Act of 1966, as amended;

14. Historic Sites Act of 1935 and

15. Executive Order 13112, Invasive Species.

(Catalog of Federal Domestic Assistance Program Number 20.205, Highway Planning and Construction. The regulations implementing Executive Order 12372 regarding intergovernmental consultation on Federal programs and activities apply to this program.)

Authority: 23 U.S.C. 139(l)(1)

Tasha J. Clemons,
Director, Program Development, Federal Highway Administration, Sacramento, California.

[FR Doc. 2017-18170 Filed 8-25-17; 8:45 am]

BILLING CODE 4910-RY-P